DEPARTMENT OF EDUCATION

[Docket No. ED-2014-ICCD-0132]

Agency Information Collection Activities; Submission to the Office of Management and Budget for Review and Approval; Comment Request; Charter School Facilities National Questionnaire

AGENCY: Office of Innovation and Improvement (OII), Department of Education (ED).

ACTION: Notice.

SUMMARY: In accordance with the Paperwork Reduction Act of 1995 (44 U.S.C. chapter 3501 et seq.), ED is proposing an extension of an existing information collection.

DATES: Interested persons are invited to submit comments on or before December 26, 2014.

ADDRESSES: Comments submitted in response to this notice should be submitted electronically through the Federal eRulemaking Portal at http://www.regulations.gov by selecting Docket ID number ED-2014-ICCD-0132 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Soumya Sathya, 202-260-0819.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Charter School Facilities National Questionnaire.

OMB Control Number: 1855-0024.

Type of Review: An extension of an existing information collection.

Respondents/Affected Public: State, Local and Tribal Governments.

Total Estimated Number of Annual Responses: 369.

Total Estimated Number of Annual Burden Hours: 1,107.

Abstract: According to Part B section 5201 of the Elementary and Secondary Education Act, one of the established purposes of the Charter Schools Program at the U.S. Department of Education (ED) is to encourage “States to provide support to charter schools for facilities financing in an amount more nearly commensurate to the amount the States have typically provided for traditional public schools”. To help achieve this purpose, the Charter School Program needs reliable data to understand the current facilities landscape for charter schools. There have been discussions on the struggles of charter schools for equitable and adequate access to facilities and facilities financing, yet there were no official studies, reports, or analyses explicitly discussing the facility landscape of charter schools and the similarities and differences between charter school and traditional public school facilities. The Charter Schools Program, through the National Charter School Resource Center, administers a questionnaire conducted by the Colorado League of Charter Schools to gather data on charter schools facilities. This data helps to assess the true facilities challenges of the charter schools and what actions ED and the SEAs must take to better financially support the facilities needs of quality charter schools. ED would like to continue to use and administer this questionnaire in additional states and compile the data from all states into a facilities database. ED plans to conduct this survey in approximately three to four states per year, depending on the size of the state and local resources of the CSO to support the survey. This database will provide comprehensive information about the facilities for charter schools and the issues that charter schools face in trying to obtain adequate facilities. The League will produce a report and an analysis summarizing the findings per state.

Dated: November 20, 2014.
Tomakie Washington,
Acting Director, Information Collection Clearance Division, Privacy, Information and Records Management Services, Office of Management.

[FR Doc. 2014-27938 Filed 11-25-14; 8:45 am]

BILLING CODE 4000-01-P